DEPARTMENT OF HOMELAND SECURITY

8 CFR Parts 103, 106, 204, 212, 214, 240, 244, 245, 245a, 264, and 274a

[CIS No. 2687-21; DHS Docket No. USCIS 2021-0010]

RIN 1615-AC68

U.S. Citizenship and Immigration Services Fee Schedule and Changes to Certain Other Immigration Benefit Request Requirements; Correction

AGENCY: U.S. Citizenship and Immigration Services, DHS.

ACTION: Proposed rule; correction.

SUMMARY: On January 4, 2023, the Department of Homeland Security (DHS) published a proposed rule that proposed adjustments to certain immigration and naturalization benefit request fees charged by U.S. Citizenship and Immigration Services (USCIS). While DHS was able to work with the Office of the Federal Register to correct two typographical errors in the public inspection version of the proposed rule that posted on January 3, 2023, the published version of the proposed rule contain the errors in Table 1. In this document, we are correcting those two typographical errors.

DATES: Written comments are due on March 6, 2023. Please refer to the instructions and guidance in the published proposed rule in the Federal Register on January 4, 2023, at 88 FR 402, FR Doc. 2022-27066, for more information on how to submit public comment.

FOR FURTHER INFORMATION CONTACT: Carol Cribbs, Deputy Chief Financial Officer, U.S. Citizenship and Immigration Services, Department of Homeland Security, 5900 Capital Gateway Drive, Camp Springs, MD 20746; telephone 240-721-3000 (this is not a toll-free number). Individuals with hearing or speech impairments may access the telephone numbers above via TTY by calling the toll-free Federal Information Relay Service at 877-889-5627 (TTY/TDD).

SUPPLEMENTARY INFORMATION:

Need for Correction

On January 4, 2023, DHS published a proposed rule in the Federal Register at 88 FR 402 proposing amendments to certain immigration and naturalization benefit request fees charged by USCIS (FR Doc. 2022-27066). There were two typographical errors in the proposed fees listed in Table 1 that were noticed after the document was scheduled for publication. DHS was able to work with the Office of the Federal Register to correct these typographical errors in the version of the proposed rule that posted for public inspection on January 3, 2023. However, the printing of the January 4, 2023 edition of the Federal Register was too far along in production and the errors were not corrected in the official publication. First in Table 1 on page 410, fifth row from the bottom for I-129CW and I-129, Petition for a CNMI Nonimmigrant Worker (with biometric services fee), the proposed fee needs to change from “$1,055” to “$1,015” in the 4th column, and the difference values need to change from “$595” to “$470” and from “129%” to “86%” in the 5th and 6th columns, respectively. Second, in Table 1 on page 411, sixth row from the top for I-765, Application for Employment Authorization—Online (with biometric services), the proposed fee needs to from “$650” to “$555” in the 4th column, and the difference values need to change from “$240” to “$60” and “59%” to “12%” in the 5th and 6th columns, respectively.

Correction of Publication

Accordingly, Table 1 beginning on page 407 of the proposed rule, FR Doc. 2022-27066, published on January 4, 2023, at 88 FR 402, is corrected and republished as follows:

Table 1—Comparison of Current ¹ and Proposed Fees
Immigration benefit request | Current fee(s) | Proposed fee(s) | Difference
Citizenship and Naturalization:
N-4 | Monthly Report on Naturalization Papers | No Fee | No Fee | N/A | N/A
N-300 | Application to File Declaration of Intention | $270 | $320 | $50 | 19%
N-336 | Request for Hearing on a Decision in Naturalization Proceedings—Online or Paper | $700 | $830 | $130 | 19%
N-400 | Application for Naturalization—Online or Paper | $640 | $760 | $120 | 19%
N-400 | Application for Naturalization—Online or Paper (with biometric services) | $725 | $760 | $35 | 5%
N-400 | Application for Naturalization—Reduced Fee | $320 | $380 | $60 | 19%
N-400 | Application for Naturalization—Reduced Fee (with biometric services) | $405 | $380 | −$25 | −6%
N-470 | Application to Preserve Residence for Naturalization Purposes | $355 | $425 | $70 | 20%
N-565 | Application for Replacement Naturalization/Citizenship Document—Online or Paper | $555 | $555 | $0 | 0%
N-600 | Application for Certificate of Citizenship—Online or Paper | $1,170 | $1,385 | $215 | 18%
N-600K | Application for Citizenship and Issuance of Certificate—Online or Paper | $1,170 | $1,385 | $215 | 18%
N-644 | Application for Posthumous Citizenship | No Fee | No Fee | N/A | N/A
N-648 | Medical Certification for Disability Exceptions | No Fee | No Fee | N/A | N/A
Humanitarian:
| Credible Fear | No Fee | No Fee | N/A | N/A
I-589 | Application for Asylum and for Withholding of Removal | No Fee | No Fee | N/A | N/A
I-590 | Registration for Classification as a Refugee | No Fee | No Fee | N/A | N/A
I-602 | Application by Refugee for Waiver of Inadmissibility Grounds | No Fee | No Fee | N/A | N/A
I-687 | Application for Status as a Temporary Resident Under Section 245A of the INA | $1,130 | $1,240 | $110 | 10%
I-687 | Application for Status as a Temporary Resident Under Section 245A of the INA (with biometric services) | $1,215 | $1,240 | $25 | 2%
I-694 | Notice of Appeal of Decision | $890 | $1,155 | $265 | 30%
I-698 | Application to Adjust Status from Temporary to Permanent Resident (Under Section 245A of the INA) | $1,670 | $1,670 | $0 | 0%
I-698 | Application to Adjust Status from Temporary to Permanent Resident (Under Section 245A of the INA) (with biometric services) | $1,755 | $1,670 | −$85 | −5%
I-730 | Refugee/Asylee Relative Petition | No Fee | No Fee | N/A | N/A
I-765V | Application for Employment Authorization for Abused Nonimmigrant Spouse | No Fee | No Fee | N/A | N/A
I-817 | Application for Family Unity Benefits | $600 | $875 | $275 | 46%
I-817 | Application for Family Unity Benefits (with biometric services) | $685 | $875 | $190 | 28%
I-821 | Application for Temporary Protected Status—Online or Paper | $50 | $50 | $0 | 0%
I-881 | Application for Suspension of Deportation or Special Rule Cancellation of Removal (for an individual adjudicated by DHS) | $285 | $340 | $55 | 19%
I-881 | Application for Suspension of Deportation or Special Rule Cancellation of Removal (for an individual adjudicated by DHS) (with biometric services) | $370 | $340 | −$30 | −8%
I-881 | Application for Suspension of Deportation or Special Rule Cancellation of Removal (for a family adjudicated by DHS) | $570 | $340 | −$230 | −40%
I-881 | Application for Suspension of Deportation or Special Rule Cancellation of Removal (for a family adjudicated by DHS) (with biometric services for two people) | $740 | $340 | −$400 | −54%
I-881 | Application for Suspension of Deportation or Special Rule Cancellation of Removal (for a family adjudicated by Executive Office for Immigration Review) | $165 | $165 | $0 | 0%
I-914 | Application for T Nonimmigrant Status | No Fee | No Fee | N/A | N/A
I-914A | Application for Family Member of T-1 Recipient | No Fee | No Fee | N/A | N/A
I-918 | Petition for U Nonimmigrant Status | No Fee | No Fee | N/A | N/A
I-918A | Petition for Qualifying Family Member of U-1 Recipient | No Fee | No Fee | N/A | N/A
I-918B | U Nonimmigrant Status Certification | No Fee | No Fee | N/A | N/A
I-929 | Petition for Qualifying Family Member of a U-1 Nonimmigrant | $230 | $270 | $40 | 17%
| Reasonable Fear | No Fee | No Fee | N/A | N/A
Family-Based: |  |  |  |
I-129F | Petition for Alien Fiancé(e) | $535 | $720 | $185 | 35%
I-130 | Petition for Alien Relative—Online | $535 | $710 | $175 | 33%
I-130 | Petition for Alien Relative—Paper | $535 | $820 | $285 | 53%
I-600 | Petition to Classify Orphan as an Immediate Relative | $775 | $920 | $145 | 19%
I-600 | Petition to Classify Orphan as an Immediate Relative (with biometric services for one adult) | $860 | $920 | $60 | 7%
I-600A | Application for Advance Processing of an Orphan Petition | $775 | $920 | $145 | 19%
I-600A | Application for Advance Processing of an Orphan Petition (with biometric services for one adult) | $860 | $920 | $60 | 7%
I-600A/I-600 Supp. 3 | Request for Action on Approved Form I-600A/I-600 | N/A | $455 | N/A | N/A
I-601A | Application for Provisional Unlawful Presence Waiver | $630 | $1,105 | $475 | 75%
I-601A | Application for Provisional Unlawful Presence Waiver (with biometric services) | $715 | $1,105 | $390 | 55%
I-751 | Petition to Remove Conditions on Residence | $595 | $1,195 | $600 | 101%
I-751 | Petition to Remove Conditions on Residence (with biometric services) | $680 | $1,195 | $515 | 76%
I-800 | Petition to Classify Convention Adoptee as an Immediate Relative | $775 | $920 | $145 | 19%
I-800A | Application for Determination of Suitability to Adopt a Child from a Convention Country | $775 | $920 | $145 | 19%
I-800A | Application for Determination of Suitability to Adopt a Child from a Convention Country (with biometric services) | $860 | $920 | $60 | 7%
I-800A Supp. 3 | Request for Action on Approved Form I-800A | $385 | $455 | $70 | 18%
I-800A Supp. 3 | Request for Action on Approved Form I-800A (with biometric services) | $470 | $455 | −$15 | −3%
Employment-Based:
| Asylum Program Fee | N/A | $600 | N/A | N/A
| H-1B Pre-Registration Fee | $10 | $215 | $205 | 2050%
I-129 | Petition for a Nonimmigrant Worker: H-1 Classifications | $460 | $780 | $320 | 70%
I-129 | H-2A Petition—Named Beneficiaries | $460 | $1,090 | $630 | 137%
I-129 | H-2B Petition—Named Beneficiaries | $460 | $1,080 | $620 | 135%
I-129 | Petition for L Nonimmigrant Worker | $460 | $1,385 | $925 | 201%
I-129 | Petition for O Nonimmigrant Worker | $460 | $1,055 | $595 | 129%
I-129CW, and I-129 | Petition for a CNMI-Only Nonimmigrant Transitional Worker; Application for Nonimmigrant Worker: E and TN Classifications; and Petition for Nonimmigrant Worker: H-3, P, Q, or R Classification | $460 | $1,015 | $555 | 121%
I-129CW, and I-129 | Petition for a CNMI Nonimmigrant Worker (with biometric services fee) | $545 | $1,015 | $470 | 86%
I-129 | H-2A Petition—Unnamed Beneficiaries | $460 | $530 | $70 | 15%
I-129 | H-2B Petition—Unnamed Beneficiaries | $460 | $580 | $120 | 26%
I-140 | Immigrant Petition for Alien Worker | $700 | $715 | $15 | 2%
I-526 | Immigrant Petition by Standalone Investor | $3,675 | $11,160 | $7,485 | 204%
I-526E | Immigrant Petition by Regional Center Investor | $3,675 | $11,160 | $7,485 | 204%
I-765 | Application for Employment Authorization—Online | $410 | $555 | $145 | 35%
I-765 | Application for Employment Authorization—Paper | $410 | $650 | $240 | 59%
I-765 | Application for Employment Authorization—Online (with biometric services) | $495 | $555 | $60 | 12%
I-765 | Application for Employment Authorization—Paper (with biometric services) | $495 | $650 | $155 | 31%
I-829 | Petition by Investor to Remove Conditions on Permanent Resident Status | $3,750 | $9,525 | $5,775 | 154%
I-829 | Petition by Investor to Remove Conditions on Permanent Resident Status (with biometric services) | $3,835 | $9,525 | $5,690 | 148%
I-907 | Request for Premium Processing Service when filing: Form I-129 requesting E-1, E-2, E-3, H-1B, H-3, L (including blanket L-1), O, P, Q, or TN nonimmigrant classification; or Form I-140 requesting EB-1, EB-2, or EB-3 immigrant visa classification | $2,500 | $2,500 | $0 | 0%
I-907 | Request for Premium Processing Service when filing Form I-129 requesting H-2B or R nonimmigrant classification | $1,500 | $1,500 | $0 | 0%
I-956 | Application For Regional Center Designation | $17,795 | $47,695 | $29,900 | 168%
I-956G | Regional Center Annual Statement | $3,035 | $4,470 | $1,435 | 47%
Other:
I-90 | Application to Replace Permanent Resident Card—Online | $455 | $455 | $0 | 0%
I-90 | Application to Replace Permanent Resident Card—Paper | $455 | $465 | $10 | 2%
I-90 | Application to Replace Permanent Resident Card—Online (with biometric services) | $540 | $455 | −$85 | −16%
I-90 | Application to Replace Permanent Resident Card—Paper (with biometric services) | $540 | $465 | −$75 | −14%
I-102 | Application for Replacement/Initial Nonimmigrant Arrival-Departure Document | $445 | $680 | $235 | 53%
I-131 | Application for Travel Document | $575 | $630 | $55 | 10%
I-131 | Application for Travel Document (with biometric services) | $660 | $630 | −$30 | −5%
I-131 | I-131 Refugee Travel Document for an individual age 16 or older | $135 | $165 | $30 | 22%
I-131 | I-131 Refugee Travel Document for an individual age 16 or older (with biometric services) | $220 | $165 | −$55 | −25%
I-131 | I-131 Refugee Travel Document for a child under the age of 16 | $105 | $135 | $30 | 29%
I-131 | I-131 Refugee Travel Document for a child under the age of 16 (with biometric services) | $190 | $135 | −$55 | −29%
I-131A | Application for Carrier Documentation | $575 | $575 | $0 | 0%
I-191 | Application for Relief Under Former Section 212(c) of the Immigration and Nationality Act (INA) | $930 | $930 | $0 | 0%
I-192 | Application for Advance Permission to Enter as Nonimmigrant (filed with USCIS) | $930 | $1,100 | $170 | 18%
I-192 | Application for Advance Permission to Enter as Nonimmigrant (filed with CBP) | $585 | $1,100 | $515 | 88%
I-193 | Application for Waiver of Passport and/or Visa | $585 | $695 | $110 | 19%
I-212 | Application for Permission to Reapply for Admission into the U.S. After Deportation or Removal | $930 | $1,395 | $465 | 50%
I-290B | Notice of Appeal or Motion | $675 | $800 | $125 | 19%
I-360 | Petition for Amerasian Widow(er) or Special Immigrant | $435 | $515 | $80 | 18%
I-485 | Application to Register Permanent Residence or Adjust Status | $1,140 | $1,540 | $400 | 35%
I-485 | Application to Register Permanent Residence or Adjust Status (with biometric services) | $1,225 | $1,540 | $315 | 26%
I-485 | Application to Register Permanent Residence or Adjust Status (under the age of 14 in certain conditions) | $750 | $1,540 | $790 | 105%
I-485 | Forms I-485 and I-131 with biometric services | $1,225 | $2,170 | $945 | 77%
I-485 | Forms I-485 and I-765 (filed on paper) with biometric services | $1,225 | $2,190 | $965 | 79%
I-485 | Forms I-485, I-131, and I-765 (filed on paper) with biometric services | $1,225 | $2,820 | $1,595 | 130%
I-485A | Supplement A, Supplement A to Form I-485, Adjustment of Status Under Section 245(i) | $1,000 | $1,000 | $0 | 0%
I-539 | Application to Extend/Change Nonimmigrant Status—Online | $370 | $525 | $155 | 42%
I-539 | Application to Extend/Change Nonimmigrant Status—Paper | $370 | $620 | $250 | 68%
I-539 | Application to Extend/Change Nonimmigrant Status—Online (with biometric services) | $455 | $525 | $70 | 15%
I-539 | Application to Extend/Change Nonimmigrant Status—Paper (with biometric services) | $455 | $620 | $165 | 36%
I-601 | Application for Waiver of Grounds of Inadmissibility | $930 | $1,050 | $120 | 13%
I-612 | Application for Waiver of the Foreign Residence Requirement (Under Section 212(e) of the INA, as Amended) | $930 | $1,100 | $170 | 18%
I-690 | Application for Waiver of Grounds of Inadmissibility | $715 | $985 | $270 | 38%
I-824 | Application for Action on an Approved Application or Petition | $465 | $675 | $210 | 45%
I-905 | Application for Authorization to Issue Certification for Health Care Workers | $230 | $230 | $0 | 0%
I-910 | Application for Civil Surgeon Designation | $785 | $1,230 | $445 | 57%
I-941 | Application for Entrepreneur Parole | $1,200 | $1,200 | $0 | 0%
I-941 | Application for Entrepreneur Parole (with biometric services) | $1,285 | $1,200 | −$85 | −7%
| Biometric Services (in most cases) | $85 | $0 | −$85 | −100%
| Biometric Services (TPS and EOIR only) | $85 | $30 | −$55 | −65%
| USCIS Immigrant Fee | $220 | $235 | $15 | 7%
Genealogy and Records:
G-1041 | Genealogy Index Search Request—Online | $65 | $100 | $35 | 54%
G-1041 | Genealogy Index Search Request—Paper | $65 | $120 | $55 | 85%
G-1041A | Genealogy Records Request—Online | $65 | $240 | $175 | 269%
G-1041A | Genealogy Records Request—Paper | $65 | $260 | $195 | 300%
G-1041 and G-1041A | Genealogy Index Search Request and Records Request—Online (digital records) | $130 | $100 | −$30 | −23%
G-1566 | Certificate of Non-Existence | $0 | $330 | $330 | N/A
No Fee:
I-134 | Declaration of Financial Support | No Fee | No Fee | N/A | N/A
I-361 | Affidavit of Financial Support and Intent to Petition for Legal Custody for Public Law 97-359 Amerasian | No Fee | No Fee | N/A | N/A
I-363 | Request to Enforce Affidavit of Financial Support and Intent to Petition for Legal Custody for Public Law 97-359 Amerasian | No Fee | No Fee | N/A | N/A
I-407 | Record of Abandonment of Lawful Permanent Resident Status | No Fee | No Fee | N/A | N/A
I-485J | Confirmation of Bona Fide Job Offer or Request for Job Portability Under INA Section 204(j) | No Fee | No Fee | N/A | N/A
I-508 | Request for Waiver of Certain Rights, Privileges, Exemptions, and Immunities | No Fee | No Fee | N/A | N/A
I-566 | Interagency Record of Request—A, G, or NATO Dependent Employment Authorization or Change/Adjustment To/From A, G, or NATO Status | No Fee | No Fee | N/A | N/A
I-693 | Report of Medical Examination and Vaccination Record | No Fee | No Fee | N/A | N/A
I-854 | Inter-Agency Alien Witness and Informant Record | No Fee | No Fee | N/A | N/A
I-864 | Affidavit of Support Under Section 213A of the INA | No Fee | No Fee | N/A | N/A
I-864A | Contract Between Sponsor and Household Member | No Fee | No Fee | N/A | N/A
I-864EZ | Affidavit of Support Under Section 213A of the INA | No Fee | No Fee | N/A | N/A
I-864W | Request for Exemption for Intending Immigrant's Affidavit of Support | No Fee | No Fee | N/A | N/A
I-865 | Sponsor's Notice of Change of Address | No Fee | No Fee | N/A | N/A
I-912 | Request for Fee Waiver | No Fee | No Fee | N/A | N/A
I-942 | Request for Reduced Fee | No Fee | No Fee | N/A | N/A
¹ These are fees that USCIS is currently charging and not those codified by the 2020 fee rule.

Christina E. McDonald,
Federal Register Liaison, U.S. Department of Homeland Security.

[FR Doc. 2023-00274 Filed 1-6-23; 8:45 am]

BILLING CODE 9111-97-P